ENVIRONMENTAL PROTECTION AGENCY

[Docket ID No.: EPA-R08-OW-2006-0627; FRL-8230-2]

Public Water System Supervision Program Revision for the State of Utah

AGENCY: Environmental Protection Agency (EPA).

ACTION: Notice; extension of comment period.

SUMMARY: On August 24, 2006, EPA proposed the following: In accordance with the provisions of section 1413 of the Safe Drinking Water Act (SDWA), 42 U.S.C. 300g-2, and 40 CFR 142.13, public notice is hereby given that the State of Utah has revised its Public Water System Supervision (PWSS) Primacy Program by adopting federal regulations for the Arsenic Rule and Filter Backwash Recycling Rule, which correspond to 40 CFR parts 141 and 142. The EPA has completed its review of these revisions in accordance with SDWA, and proposes to approve Utah's primacy revisions for the above stated Rules.

Today's approval action does not extend to public water systems in Indian country, as defined in 18 U.S.C. 1151. Please see SUPPLEMENTARY INFORMATION, Item B.

DATES: The comment period for this proposal has been extended until November 13, 2006. Any member of the public is invited to request a public hearing on this determination. Please see SUPPLEMENTARY INFORMATION, Item C, for details. Should no timely and appropriate request for a hearing be received, and the Regional Administrator (RA) does not elect to hold a hearing on his own motion, this determination shall become effective November 13, 2006. If a hearing is granted, then this determination shall not become effective until such time, following the hearing, as the RA issues an order affirming or rescinding this action.

ADDRESSES: Requests for a public hearing shall be addressed to: Robert E. Roberts, Regional Administrator, c/o Jack Theis (8P-W-DW), U.S. EPA, Region 8, 999 18th St., Suite 300, Denver, CO 80202-2466.

All documents relating to this determination are available for inspection at the following locations: (1) U.S. EPA, Region 8, Drinking Water Unit, 999 18th St. (4th Floor), Denver, CO 80202-2466; (2) Utah Department of Environment Quality (DEQ) Division of Drinking Water, 1950 West North Temple, Salt Lake City, UT 84114-4830, and/or (3) online at: http://www.regulations.gov, with reference to Docket ID No. EPA-R08-OW-2006-0627. However, based on sensitivity, certain materials are available in hardcopy only. The above Web site is an “anonymous access” system, which means that should you submit an electronic comment, EPA recommends you provide your identity or contact information in the body of your comment. If you e-mail your comment directly to EPA without going through www.regulations.gov, your e-mail address will be automatically captured and included as part of the comment(s) that is placed in the public docket and made available on the Internet. If your comment cannot be read due to technical difficulties and you cannot be contacted for clarification, EPA may not be able to consider your comment. Electronic files should avoid the use of special characters or any form of encryption, and be free of any defects or viruses.

FOR FURTHER INFORMATION CONTACT: Jack Theis at 303-312-6347.

SUPPLEMENTARY INFORMATION: EPA approved Utah's application for assuming primary enforcement authority for the PWSS program, pursuant to section 1413 of SDWA, 42 U.S.C. 300g-2, and 40 CFR part 142. DEQ administers Utah's PWSS program.

A. Why Are Revisions to State Programs Necessary?

States with primary PWSS enforcement authority must comply with the requirements of 40 CFR part 142 for maintaining primacy. They must adopt regulations that are at least as stringent as the NPDWRs at 40 CFR parts 141 and 142, as well as adopt all new and revised NPDWRs in order to retain primacy (40 CFR 142.12(a)).

B. How Does Today's Action Affect Indian Country in Utah?

This program revision does not extend to “Indian country,” as defined in 18 U.S.C. 1151. Indian country includes: (1) Lands within the exterior boundaries of the following Indian Reservations located within or abutting the State of Utah:

a. Goshute Indian Reservation;

b. Navajo Indian Reservation;

c. Northwestern Band of Shoshoni Nation of Utah (Washakie) Indian Reservation;

d. Paiute Indian Tribe of Utah Indian Reservation;

e. Skull Valley Band of Goshute Indians of Utah Indian Reservation;

f. Uintah and Ouray Indian Reservation (see below);

g. Ute Mountain Indian Reservation;

(2) any land held in trust by the United States for an Indian tribe; and (3) any other areas which are “Indian country” within the meaning of 18 U.S.C. 1151.

With respect to the Uintah and Ouray Indian Reservation, Federal courts have determined that certain lands within the exterior boundaries of the Reservation do not constitute Indian country. This State program revision approval will extend to those lands which the courts have determined are not Indian country.

C. Requesting a Hearing

Any request for a public hearing shall include: (1) The name, address, and telephone number of the individual, organization, or other entity requesting a hearing; (2) a brief statement of the requester's interest in the RA's determination and of information that he/she intends to submit at such hearing; and (3) the signature of the requester or responsible official, if made on behalf of an organization or other entity.

Notice of any hearing shall be given not less than fifteen (15) days prior to the time scheduled for the hearing, and will be made by the RA in the Federal Register and newspapers of general circulation in the State. A notice will also be sent to both the person(s) requesting the hearing and the State. The hearing notice will include a statement of purpose, information regarding time and location, and the address and telephone number where interested persons may obtain further information. The RA will issue a final determination upon review of the hearing record.

Frivolous or insubstantial requests for a hearing may be denied by the RA. However, if a substantial request is made within thirty (30) days after this notice, a public hearing will be held.

Please bring this notice to the attention of any persons known by you to have an interest in this determination.

Dated: October 4, 2006.
Kerrigan G. Clough,
Deputy Regional Administrator, Region 8.

[FR Doc. E6-16929 Filed 10-11-06; 8:45 am]

BILLING CODE 6560-50-P